DEPARTMENT OF LABOR

Mine Safety and Health Administration

Petition for Modification of Application of Existing Mandatory Safety Standards

AGENCY: Mine Safety and Health Administration, Labor.

ACTION: Notice.

SUMMARY: This notice is a summary of a petition for modification submitted to the Mine Safety and Health Administration (MSHA) by Iron Cumberland, LLC.

DATES: All comments on the petition must be received by MSHA's Office of Standards, Regulations, and Variances on or before November 4, 2024.

ADDRESSES: You may submit comments identified by Docket No. MSHA-2024-0030 by any of the following methods:

1. Federal eRulemaking Portal: https://www.regulations.gov. Follow the instructions for submitting comments for MSHA-2024-0030.

2. Fax: 202-693-9441.

3. Email: petitioncomments@dol.gov.

4. Regular Mail or Hand Delivery: MSHA, Office of Standards, Regulations, and Variances, 201 12th Street South, Suite 4E401, Arlington, Virginia 22202-5452.

Attention: S. Aromie Noe, Director, Office of Standards, Regulations, and Variances. Persons delivering documents are required to check in at the receptionist's desk, 4th Floor West. Individuals may inspect copies of the petition and comments during normal business hours at the address listed above. Before visiting MSHA in person, call 202-693-9455 to make an appointment, in keeping with the Department of Labor's COVID-19 policy. Special health precautions may be required.

FOR FURTHER INFORMATION CONTACT: S. Aromie Noe, Office of Standards, Regulations, and Variances at 202-693-9440 (voice), Petitionsformodification@dol.gov (email), or 202-693-9441 (fax). [These are not toll-free numbers.]

SUPPLEMENTARY INFORMATION: Section 101(c) of the Federal Mine Safety and Health Act of 1977 and title 30 of the Code of Federal Regulations (CFR) part 44 govern the application, processing, and disposition of petitions for modification.

I. Background

Section 101(c) of the Federal Mine Safety and Health Act of 1977 (Mine Act) allows the mine operator or representative of miners to file a petition to modify the application of any mandatory safety standard to a coal or other mine if the Secretary of Labor determines that:

1. An alternative method of achieving the result of such standard exists which will at all times guarantee no less than the same measure of protection afforded the miners of such mine by such standard; or

2. The application of such standard to such mine will result in a diminution of safety to the miners in such mine.

In addition, sections 44.10 and 44.11 of 30 CFR establish the requirements for filing petitions for modification.

II. Petition for Modification

Docket Number: M-2024-013-C.

Petitioner: Iron Cumberland, LLC, 576 Maple Run Road, Waynesburg, PA 15370.

Mine: Cumberland Mine, MSHA ID No. 36-05018, located in Greene County, Pennsylvania.

Regulation Affected: 30 CFR 75.1700, Oil and gas wells.

Modification Request: The petitioner requests a modification of 30 CFR 75.1700 as it relates to unconventional gas wells at the mine. Specifically, the petitioner is petitioning to mine within the 300-feet barrier established by 30 CFR 75.1700.

The petitioner states that:

(a) Cumberland is a large coal mine that produces coal from the Pittsburgh seam. It utilizes continuous miners to develop panels for retreat mining by longwall mining equipment.

(b) The Cumberland Mine employs approximately 754 miners and produces approximately 32,000 tons of bituminous coal per day from the Pittsburgh #8 coal seam with an average height of 96 inches. At this time, there are no coal seams being mined stratigraphically down section from the Pittsburgh seam. The mine is accessed through one slope and five airshafts. The mine operates one longwall, two advancing gate sections, and a mains section utilizing continuous mining machines.

(c) The planning for the layout of a longwall mining panel and district is a complex one that necessarily must take into account various factors related to ventilation, roof control, coal quality and production.

(d) The petition is necessary to facilitate mining of the No. 83 South longwall panel. The longwall shearer will mine through and intersect the Alpha Unit 2 Marcellus gas wells. Altering mining projections to avoid the Alpha Unit 2 gas wells would require a “longwall move” in the middle of a panel. This would require driving an additional set up face and could potentially create adverse ventilation and roof control conditions. It would also require an additional longwall “move,” which has certain inherent hazards related to moving longwall equipment through the mine.

(e) The Cumberland Mine desires to plug eight unconventional gas wells in the Marcellus shale so that mining may occur within the 300-foot diameter or so that they may be mined through. These are:

(1) The Alpha Unit 2 Marcellus Gas Well American Petroleum Institute (API) #: 37-059-25679(1 H)

(2) The Alpha Unit 2 Marcellus Gas Well (API) #: 37-059-25763(1.1H)

(3) The Alpha Unit 2 Marcellus Gas Well (API) #: 37-059-25979(2H)

(4) The Alpha Unit 2 Marcellus Gas Well (API) #: 37-059-25764(3H)

(5) The Alpha Unit 2 Marcellus Gas Well (API) #: 37-059-26051(5H)

(6) The Alpha Unit 2 Marcellus Gas Well API #: 37-059-25980 (6H)

(7) The Alpha Unit 2 Marcellus Gas Well API #: 37-059-26052 (7H)

(8) The Alpha Unit 2 Marcellus Gas Well API #: 37-059-25981 (8H)

(f) The requested petition is necessary because the existing granted petitions do not specifically apply to unconventional wells, and, if a 300-foot barrier around the AU2 wells is required in accordance with the provisions of 75.1700, the roof control plan would be adversely affected and the mine ventilation plan would be unduly complicated. Mining an additional set-up face and bleeder entries would be required, additional conveyer belt drives would need to be installed, and an entire longwall mining unit in the middle a panel would need to be moved, unnecessarily exposing miners to transportation hazards as well as hazards associated with mine roof. Further, other safe methods and procedures are available to achieve the result intended by the standard. The wells would be “killed” and depleted of all gas and effectively plugged prior to intersection. Effective, safe methods of plugging wells are established and addressed in the proposed petition.

(g) The alternative method provides an equivalent level of protection as many previous petitions. It permits identification of wells and contains provisions that prevent the introduction of methane or natural gas within the mine by appropriate and extensive plugging of the wells. Additional precautions provide for the detection of gas and the prevention of accumulations of gas with oversight by MSHA.

The petitioner proposes the following alternative method:

(a) A safety barrier of 300 feet in diameter shall be maintained around the Alpha Unit 2 1H, 1.1H, 2H, 3H, 5H, 6H, 7H and 8H gas wells until the District Manager approves proceeding with mining.

(b) A sworn affidavit or declaration executed by the company official who is in charge of health and safety at the mine stating that all mandatory procedures in the Proposed Decision and Order (PDO) granted by MSHA for cleaning out, preparing, and plugging each gas well have been completed shall be provided to the District Manager prior to mining within the safety barrier around these wells. The affidavit or declaration shall be accompanied by all logs, electronic or otherwise, described in section (d)(7) and any other records the District Manager requires.

(c) The terms and conditions of the PDO granted by MSHA shall apply to all types of underground coal mining.

(d) The following procedures shall be followed for cleaning out and preparing the Alpha Unit 2 1H, 1.1H, 2H, 3H, 5H, 6H, 7H and 8H gas wells prior to plugging:

(1) Test for gas emissions inside the hole before cleaning out, preparing, and plugging gas wells. The District Manager shall be contacted if the well is actively producing gas.

(2) Since these wells are unconventional and greater than 4,000 feet in depth, a diligent effort shall be made to remove all the casing in the well and clean the well down to the original arrowset packer installed just above the “kick off point” in the well. The well shall be completely cleaned from the surface to at least the same arrowset packer originally installed. The District Manager shall be provided with all information it possesses concerning the geological nature of the strata and the pressure of the well. A diligent effort shall be made to remove all material from the entire diameter of the well, wall to wall.

(3) Since these wells will no longer be producing and will be cleaned and prepared subject to the PDO granted by MSHA, a diligent effort shall be made to remove all of the casing and comply with all other applicable provisions of the PDO granted by MSHA.

(4) A diligent effort to remove the casing shall require a minimum of 150 percent of the casing string weight and/or at least three attempts to spear the casing for the required minimum pull effort. A record of these efforts, including casing length and weight shall be kept and made available for MSHA review.

(5) Perforations or rips shall be made at least every 50 feet from 400 feet below the base of the coal seam up to 100 feet above the uppermost mineable coal seam. Appropriate steps shall be taken to ensure that the annulus between the casing and the well walls are filled with expanding (minimum 0.5 percent expansion upon setting) cement and contain no voids.

(6) Jet/sand cutting is one method for cutting, ripping, or perforating the casing with three or more strings of casing in the coal seam in preparation for mining. This method uses compressed nitrogen gas and sand to cut the well casings. On active wells, cuts start at 200 feet above the bottom of the casing, at 200 feet intervals, to 200 feet below the bottom of the coal seam.

(7) The operator shall prepare down-hole logs for each well. Logs shall consist of a caliper survey, a bond log if appropriate, a deviation survey, and a gamma survey for determining the top, bottom, and thickness of all coal seams down to the coal seam to be mined or the lowest mineable coal seam, whichever is lower, potential hydrocarbon producing strata, and the location of any existing bridge plug. In addition, a log shall be maintained describing: the depth of each material encountered; the nature of each material encountered; bit size and type used to drill each portion of the hole; length and type of each material used to plug the well; length of casings removed, perforated or ripped, or left in place; any sections where casing was cut or milled; and other pertinent information concerning cleaning and sealing the well. Invoices, workorders, and other records relating to all work on the well shall be maintained as part of this journal and provided to MSHA upon request.

(8) A diligent effort shall be made to remove the casing down to the arrowset packer installed just above the “kick off point” (where the well transitions from vertical to horizontal). If the entire vertical casing above the existing packer can be removed, the well shall be prepared for plugging and sealed and using seals described in section (d)(10).

(9) If the District Manager concludes that the completely cleaned out well is emitting excessive amounts of gas, an additional mechanical bridge plug shall be placed in the well.

(10) The mechanical bridge plug shall be placed in a competent stratum at least 400 feet below the base of the lowest mineable coal seam, but above the top of the uppermost hydrocarbon-producing stratum, unless the District Manager requires a greater distance based on the geological strata or the pressure within the well. The District Manager shall be provided with all available information concerning the geological nature of the strata and the pressure of the well. If it is not possible to set a mechanical bridge plug, an appropriately sized packer may be used. The measures taken to “kill the well” and plug the hydrocarbon producing strata shall be documented.

(11) If the upper-most hydrocarbon-producing stratum is within 300 feet of the base of the coal seam, mechanical bridge plugs shall be properly placed to isolate the hydrocarbon-producing stratum from the expanding cement plug.

(12) A minimum of 400 feet of expanding cement shall be placed below the coal seam, unless the District Manager requires a greater distance based the geological strata or to the pressure within the well.

(e) The following procedures shall be followed for plugging the Alpha Unit 2 1H, 1.1H, 2H, 3H, 5H, 6H, 7H and 8H gas wells to the surface after completely cleaning out the well:

(1) Cement shall be used as a plugging material.

(2) The mine operator shall pump cement slurry down the well to form a plug which runs from the original arrowset packer installed just above the “kick off point” in the well to 400 feet below the Pittsburgh #8 coal seam. The cement shall be placed in the well under a pressure of at least 200 pounds per square inch (psi). The mine operator shall pump expanding cement slurry down the well to form a plug which runs from 400 feet below the coal seam to the surface. The District Manager can modify the cementing plan based on the geological strata or the pressure within the well.

(3) The mine operator shall embed steel turnings or other small magnetic particles in the top of the cement near the surface to serve as a permanent magnetic monument of the well. In the alternative, a 4-inch or larger diameter casing, set in cement, shall extend at least 36 inches above the ground level with the API well number engraved or welded on the casing. When the hole cannot be marked with a physical monument (e.g., prime farmland), high-resolution GPS coordinates (one-half meter resolution) are required.

(f) The following procedures shall be followed for preparing and plugging or re-plugging the Alpha Unit 2 1H, 1.1H, 2H, 3H, 5H, 6H, 7H and 8H gas wells:

(1) If it is not possible to remove all the casing, the District Manager shall be notified before any other work is performed.

(2) If the well cannot be cleaned out or the casing removed, the well shall be prepared from the surface to at least 400 feet below the base of the Pittsburgh #8 coal seam, unless the District Manager requires cleaning out and removal of casing to a greater depth based on the geological strata or the pressure within the well.

(3) If the casing cannot be removed from the total depth, the well shall be filled with cement from the lowest possible depth to 400 feet below the Pittsburgh #8 coal seam, and the other applicable provisions in the PDO granted by MSHA shall apply.

(4) If the casing cannot be removed, the casing shall be perforated from 400 feet below the Pittsburgh #8 coal seam, the annuli shall be cemented or otherwise filled, and the other applicable provisions in the PDO granted by MSHA shall apply.

(5) If the casing cannot be removed, the casing shall be cut, milled, perforated, or ripped at sufficient intervals to facilitate the removal of any remaining casing in the coal seam by the mining equipment. Any casing which remains shall be cut, perforated, or ripped to permit the injection of cement into voids within and around the well. All casing remaining at the Pittsburgh #8 coal seam shall be cut, perforated, or ripped at least every 5 feet from 10 feet below the coal seam to 10 feet above the coal seam.

(g) The following procedures shall be followed when mining within a 100-foot diameter barrier around the Alpha Unit 2 1H, 1.1H, 2H, 3H, 5H, 6H, 7H and 8H gas wells.

(1) A representative of the mine operator, a representative of the miners, the appropriate State agency, or the MSHA District Manager may request that a conference be conducted prior to intersecting any plugged well. The party requesting the conference shall notify all other parties listed above within a reasonable time prior to the conference to provide opportunity for participation. The purpose of the conference shall be to review, evaluate, and accommodate any abnormal or unusual circumstance related to the condition of the well or surrounding strata when such conditions are encountered.

(2) Each well shall be intersected on a shift approved by the District Manager. The District Manager and the miners' representative shall be notified in sufficient time prior to intersecting a well to provide an opportunity to have representatives present.

(3) Drivage sites shall be installed at the last open crosscut near the place to be mined to ensure intersection of the well when using continuous mining methods. The drivage sites shall not be more than 50 feet from the well. When using longwall-mining methods, distance markers shall be installed on 5-foot centers for a distance of 50 feet in advance of the well in the headgate entry and in the tailgate entry.

(4) When either the conventional or continuous mining method is used, firefighting equipment including fire extinguishers, rock dust, and sufficient fire hose to reach the working face area of the well intersection shall be available and operable during all well intersections. The fire hose shall be located in the last open crosscut of the entry or room. A water line shall be maintained to the belt conveyor tailpiece along with a sufficient amount of fire hose to reach the farthest point of penetration on the section. When the longwall mining method is used, a hose to the longwall water supply is sufficient.

(5) Sufficient supplies of roof support and ventilation materials shall be available and located at the last open crosscut. In addition, emergency plugs and suitable sealing materials shall be available in the immediate area of the well intersection.

(6) Testing and permissibility examinations of all equipment shall be made on the shift prior to intersecting the well. Water sprays, water pressures, and water flow rates used for dust and spark suppression shall be examined and any deficiencies corrected.

(7) The methane monitor(s) on the longwall, continuous mining machine, or cutting machine and loading machine shall be calibrated on the shift prior to intersecting the well.

(8) When mining is in progress, tests for methane shall be made with a handheld methane detector at least every 10 minutes from when mining with the continuous mining machine or longwall face is within 30 feet of the well until the well is intersected. During the actual cutting process, no individual shall be allowed on the return side until the well intersection has been completed and the area has been examined and declared safe. All workplace examinations on the return side of the shearer shall be conducted while the shearer is idle. The most current Approved Ventilation Plan shall be followed at all times unless the District Manager requires a greater air velocity for the intersect.

(9) When using continuous or conventional mining methods, the working place shall be free from accumulations of coal dust and coal spillages. Rock dust shall be placed on the roof, rib, and floor to within 20 feet of the face when intersecting the well. On longwall sections, rock dusting shall be conducted and placed on the roof, rib, and floor up to both the headgate and tailgate gob.

(10) When the well is intersected, all equipment shall be de-energized and thoroughly examined and the area determined to be safe before permitting mining to resume.

(11) After a well has been intersected and the working place determined to be safe, mining shall continue inby the well a sufficient distance to permit adequate ventilation around the area of the well.

(12) If the casing is cut or milled at the coal seam level, the use of torches should not be necessary. When necessary, torches may be used for inadequately or inaccurately cut or milled casings. No open flame shall be permitted in the area until adequate ventilation has been established around the well bore and methane levels of less than 1.0 percent are present in all areas that will be exposed to flames and sparks from the torch. A thick layer of rock dust shall be applied to the roof, face, floor, ribs, and any exposed coal within 20 feet of the casing prior to the use of torches.

(13) Non-sparking (brass) tools shall be available and used exclusively to expose and examine cased wells.

(14) No person shall be permitted in the area of the well intersection except those actually engaged in the operation, including company personnel, representatives of the miners, personnel from MSHA, and personnel from the appropriate State agency.

(15) All personnel in the mine shall be alerted to the planned intersection of the well prior to their going underground if the planned intersection is to occur during their shift. This warning shall be repeated for all shifts until the well has been mined through.

(16) The well intersection shall be under the direct supervision of a certified individual. Instructions concerning the well intersection shall be issued only by the certified individual in charge.

(17) If the well in the longwall panel cannot be located or if a development section misses the anticipated intersection, mining shall cease, and an examination for hazardous conditions at the projected location of the well shall be conducted, the District Manager shall be notified, and reasonable measures shall be taken to locate the well, including visual observation/inspection or through survey data. Mining may resume if the well is located, and no hazardous conditions exist. If the well cannot be located, the mine operator shall work with District Manager to resolve any issues before mining resumes.

(18) The provisions of the requested petition do not impair the authority of representatives of MSHA to interrupt or halt the well intersection and to issue a withdrawal order when they deem it necessary for the safety of the miners. MSHA may order an interruption or cessation of the well intersection and/or a withdrawal of personnel by issuing either a verbal or written order to that effect to a representative of the mine operator. Operations in the affected area of the mine may not resume until a representative of MSHA permits resumption. The mine operator and miners shall comply with verbal or written MSHA orders immediately. All verbal orders shall be committed to writing within a reasonable time as conditions permit.

(19) A copy of the PDO granted by MSHA shall be maintained at the mine and available to the miners.

(20) If the well is not plugged to the total depth of all minable coal seams identified in the core hole logs, any coal seams beneath the lowest plug shall remain subject to the bander requirements of 30 CFR 75.1700, should those coal seams be developed in the future.

(21) All necessary safety precautions and safe practices according to industry standards and required by MSHA regulations and State regulatory agencies having jurisdiction over the plugging site shall be followed to provide the upmost protection to the miners involved in the process.

(22) All miners involved in the plugging or re-plugging operations shall be trained on the contents of the PDO granted by MSHA prior to starting the process. A copy of the PDO granted by MSHA shall be posted at the well site until the plugging or re-plugging has been completed.

(23) Mechanical bridge plugs shall incorporate the best available technologies that are either required or recognized by the State regulatory agency and/or oil and gas industry.

(24) Within 30 days after the PDO granted by MSHA becomes final, proposed revisions for the approved 30 CFR part 48 training plan shall be submitted to the District Manager. These proposed revisions shall include initial and refresher training on compliance with the terms and conditions stated in the PDO granted by MSHA. All miners involved in well intersection shall be provided with training on the requirements of the PDO granted by MSHA prior to mining within 150 feet of the well intended to be mined through.

(25) The responsible person required under 30 CFR 75.1501, shall be responsible for well intersection emergencies. The well intersection procedures shall be reviewed by the responsible person prior to any planned intersection.

(26) Within 30 days after the PDO granted by MSHA becomes final, proposed revisions shall be submitted for the approved mine emergency evacuation and firefighting program of instruction required under 30 CFR 75.1502. The program of instruction shall be revised to include the hazards and evacuation procedures to be used for well intersections. All underground miners shall be trained in this revised plan within 30 days of submittal.

(h) The following detailed cleaning and plugging procedures are additional specifics and guidelines for cleaning out and preparing the Alpha Unit 2 IH, 1.1H, 3H, 5H, 6H, 7H and 8H gas wells prior to plugging and for plugging the Alpha Unit 2 gas wells to the surface:

(1) Record the shut-in pressure and monitor the casing pressure.

(2) Move in equipment. Rig up the wireline rig and the pumping unit to the well head. Load fresh water (8.3 lbs/gallon) and weighted brine water (10.0 lbs/gallon) into their respective tanks.

(3) Pump sufficient amount of weighted brine water into the wellbore first. Switch to fresh water and finish loading the wellbore. Fresh and brine water shall be pumped until the well is officially “killed,” which means the well is dead and has no gas delivered to the surface.

(4) Rig up the wireline well head control. Run into the hole with a 5½″-10,000 psi rated Cast Iron Bridge Plug (CIBP) and set the CIBP within the 5½″ production tubing at the location where the existing arrowset packer is installed (located just above the “kick off point” in the well). Pull out of the hole and rig down the wireline rig.

(5) Pressure test the installed 5½″-10,000 psi CIBP up to 80 percent of its working pressure for a minimum of one hour (surface + hydrostatic). Record pressure test results.

(6) Rig up the drill rig and install a 10,000 psi Wellhead Blowout Preventer.

(7) Pressure test the Wellhead Blowout Preventer up to 90 percent of its working pressure for one hour. Record pressure test results.

(8) Rig up the wireline rig and perform a cement bond log to determine the “top of cement” within the annulus of the 5½″ casing. Pull out of the hole and rig down the wireline rig. Preliminarily, based on the existing bond logs, the “top of cement” is expected to be located below the 9⅝″ casing seat.

(9) Pick up the drill pipe and trip in the hole down to the installed 5½″ CIBP. Set a cement plug with a gas blocker additive from the existing 5½″ CIBP up to the “top of cement” of the 5½″ casing (determined by the new bond log results). Wait on cement to cure for a minimum of eight hours.

(10) Rig up the wireline rig, run into the hole to the top of the existing cement plug and cut the 5½″ casing. Run out of the hole and rig down the wireline rig.

(11) Using the drill rig, pull all of the free 5½″ casing out of the hole. Load the hole with fresh water as required.

(12) After removing the 5½″ casing, shut-in the well and monitor the gas pressure for a minimum of one hour. Record shut-in test results. If any gas pressure is encountered during the shut-in test, an additional CIBP or packers may be used to mitigate gas migration. (No gas pressure is acceptable.)

(13) Rig up the wireline rig and perform a cement bond log on the 9⅝″ casing. Pull out of the hole and rig down the wireline rig. Preliminarily, the 9⅝″ casing is expected to be fully cemented within the annulus. It was reported that cement was circulated to the surface upon install for the 9⅝″ casing, the 13⅜″ casing, and the 20″ casing. Any voids encountered within the 9⅝″ annulus shall be addressed appropriately.

(14) Pick up the drill pipe and trip in the hole down to the previous cement plug. Set an additional cement plug with a gas blocker additive from the existing cement plug up to 100′ above the 9⅝″ casing seat. Wait on cement to cure for a minimum of eight hours.

(15) Shut-in the well and monitor the gas pressure while the cement is curing. Record shut-in test results. If additional gas pressure is encountered during the shut-in test, an additional CIBP or packers may be used to mitigate gas migration.

(16) Pick up the drill pipe and trip in the hole down to the previous cement plug. Set an additional cement plug with a gas blocker additive from the existing cement plug up to 400' below the bottom of the Pittsburgh #8 coal seam. Wait on cement to cure for a minimum of eight hours.

(17) Shut-in the well and monitor the gas pressure while the cement is curing. Record shut-in test results. If any gas pressure is encountered during the shut-in test, an additional CIBP or packers may be used to mitigate gas migration. (No gas pressure is acceptable.)

(18) At this point, the well has been effectively plugged from the original arrowset packer which was installed just above the “kick off point” (vertical to horizontal) up to 400' below the Pittsburgh #8 coal seam. (Effectively plugged means no sign of any gas detected in the well bore.) The remaining procedures to complete the plugging process from 400' below the Pittsburgh #8 coal seam to the surface can be found above.

(i) The miners at Cumberland mine are currently represented by a labor organization and this petition is posted at the mine and has been served on the miners' representative on May 8, 2024, as indicated in the Certificate of Service.

In support of the proposed alternative method, the petitioner has also submitted: a schematic for cutting, milling, perforating or ripping well casing above and below the Pittsburgh #8 coal seam; a schematic for general proposed permanent plugging for an unconventional gas well; a copy of a previously granted PDO; a map of the proposed workings in Willow Grove District; a map showing the AU2 geologic summary (well location plats and well site); well record and completion data; and other relevant facts.

The petitioner asserts that the alternative method proposed will at all times guarantee no less than the same measure of protection afforded the miners under the mandatory standard.

Song-ae Aromie Noe,
Director, Office of Standards, Regulations, and Variances.

[FR Doc. 2024-22975 Filed 10-3-24; 8:45 am]

BILLING CODE 4520-43-P